DEPARTMENT OF LABOR

Employment Standards Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment Standards Administration, Office of Workers' Compensation Programs (OWCP) is soliciting comments concerning the following proposed collections: (1) FECA Medical Report Forms and Claim for Compensation (CA-16b, CA-17b, CA-20, CA-1090, CA-1303, CA-1305, CA-1306, CA-1314, CA-1316, CA-1331, CA-1332, CA-1336, OWCP-5a, OWCP-5b, OWCP-5c, and CA-7); and (2) Rehabilitation Action Report (OWCP-44). A copy of the proposed information collection requests can be obtained by contacting the office listed below in the addressee section of this Notice.

DATES: Written comments must be submitted to the office listed in the addressee section below on or before May 20, 2002.

ADDRESSES: Ms. Patricia A. Forkel, U.S. Department of Labor, 200 Constitution Ave., N.W., Room S-3201, Washington, D.C. 20210, telephone (202) 693-0339, fax (202) 693-1451, EMail pforkel@feix2.dol-esa.gov. Please use only one method of transmission for comments (mail, fax, or e-mail).

SUPPLEMENTARY INFORMATION:

FECA Medical Report Forms (CA-16b, CA-17b, CA-20, CA-1090, CA-1303, CA-1305, CA-1331, CA-1332, QCM letters, OWCP-5a, OWCP-5b, OWCP-5c), and Claim for Compensation (CA-7)

I. Background

The Federal Employees' Compensation Act (FECA) provides for the payment of benefits for wage loss and/or for permanent impairment to a scheduled member, arising out of a work related injury or disease. Before compensation may be paid, the case file must contain medical evidence showing that the claimant's disability is causally related to the claimant's federal employment. As a particular claim ages, there is continuing need for updated information to support continuing benefits. The FECA Medical Report Forms collect medical information from physicians which is necessary to determine entitlement to benefits under the Act. Form CA-7, Claim for Compensation, requests information from the injured worker regarding pay rate, dependents, earnings, dual benefits, and third-party information. This information collection is approved by the Office of Management and Budget for use through August 2002.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks approval of this information collection request in order to carry out its statutory responsibility to compensate injured employees under the provisions of the Act. The OWCP has carefully reviewed usage of these forms and has determined that three forms formerly included as part of this OMB clearance number, (CA-1306, CA-1314, and CA-1316,) have not been used in the past year and are obsolete. These forms have been eliminated. The CA-1336 formerly approved as part of this information collection request has been replaced by the QCM Letters. In addition, the CM-1090, the OWCP 5a, 5b, and 5c have been revised.

Type of Review: Revision.

Agency: Employment Standards Administration.

Title(s): Claim for Compensation, FECA Medical Reports.

OMB Number: 1215-0103.

Agency Number(s): CA-16b, CA-17b, CA-20, CA-1090, CA-1303, CA-1305, CA-1331, CA-1087, QCM letters, OWCP-5a, OWCP-5b, OWCP-5c), and Claim for Compensation (CA-7).

Affected Public: Individuals or households; businesses or other for-profit; Federal government.

Frequency: As needed.

Form | No. of respondents | Average minutes per response | Burden hours
CA-7 | 400 | 13 | 87
CA-16b | 130,000 | 5 | 10,833
CA-17b | 60,000 | 5 | 5,000
CA-20 | 65,000 | 5 | 5,417
CA-1090 | 200 | 10 | 34
CA-1303 | 2,000 | 20 | 667
CA-1305 | 10 | 20 | 3
CA-1331 | 200 | 5 | 17
CA-1332 | 200 | 30 | 100
QCM letters | 1,000 | 5 | 83
OWCP-5a | 7,000 | 15 | 1,750
OWCP-5b | 5,000 | 15 | 1,250
OWCP-5c | 15,000 | 15 | 3,750

Total Responses: 286,010.

Estimated Total Burden Hours: 28,991.

Total Burden Cost (capital/startup): $0.

Total Burden Cost (operating/maintenance): $105,824.

Rehabilitation Action Report (OWCP 44)

I. Background

The Office of Workers' Compensation Programs (OWCP) administers the Federal Employees' Compensation Act. Section 8104(a) of the Act provides that eligible injured workers are furnished vocational rehabilitation services. The costs of these services are paid from the Employees' Compensation Fund. The Rehabilitation Action Report (OWCP-44) is submitted by a rehabilitation counselor to report transition periods in the vocational rehabilitation process and to request prompt adjudicatory action. The form gives prompt notification of key events requiring action in the vocational rehabilitation process. The form is currently approved by the Office of Management and Budget OMB for use through August 2002.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions

The Department of Labor seeks an extension of approval to collect this information in order to gather information to enable OWCP to make timely, informed decisions about rehabilitation services for an injured worker. There is no change to the form since the last approval.

Type of Review: Extension.

Agency: Employment Standards Administration.

Title: Rehabilitation Action Report.

OMB Number: 1215-0182.

Agency Number: OWCP-44.

Affected Public: Businesses or other for-profit; individuals or households.

Frequency: On occasion.

Total Respondents: 7,000.

Time per Response: 30 minutes.

Estimated Total Burden Hours: 3,500.

Total Burden Cost (capital/startup): $0.

Total Burden Cost (operation/maintenance): $0.

Comments submitted in response to this notice will be summarized and/or included in the request for Office of Management and Budget approval of the information collection request; they will also become a matter of public record.

Dated: March 15, 2002.
Gary D. Thayer,
Director, Division of Financial Management, Office of Management, Administration and Planning, Employment Standards Administration.

[FR Doc. 02-6866 Filed 3-20-02; 8:45 am]

BILLING CODE 4510-CH-P